DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Retention Survey of NHSC Clinicians and Alumni/NHSC Site Administrators—(OMB No. 0915-NEW)

The National Health Service Corps (NHSC) Loan Repayment and Scholarship Programs were established to assure an adequate supply of trained primary care health care professionals to provide services in the neediest Health Professional Shortage Areas (HPSAs) of the United States. Under these programs, the Department of Health and Human Services agrees to repay the educational loans of, or provide scholarships to, primary care health professionals. In return, the professionals agree to serve for a specified period of time in a federally designated HPSA approved by the Secretary. The last survey conducted to analyze retention of NHSC clinicians is more than 10 years old. There is a need to distribute a survey to reevaluate the personal/professional development of NHSC clinicians in an effort to retain the clinicians in service providing care for individuals residing in underserved areas. The survey will ask current and former NHSC clinicians questions regarding professional satisfaction, expectations of being in the NHSC, and about their experiences at NHSC sites. The survey will also ask NHSC site administrators questions about the sites and about the attributes of the current and former NHSC clinicians at sites.

The annual estimate of burden is as follows:

Instrument | Number of respondents | Responses per respondent | Total responses | Hours per response | Total burden hours
Survey of Site Administrators | 500 | 1 | 500 | .125 | 62.50
Survey of NHSC Clinicians in Service (LRP) | 2,740 | 1 | 2,740 | .11 | 301.40
Survey of NHSC Clinicians in Service (Scholars) | 536 | 1 | 536 | .14 | 75.04
Survey of NHSC Recent Alumni (LRP) | 2,393 | 1 | 2,393 | .23 | 550.39
Survey of NHSC Recent Alumni (Scholars) | 435 | 1 | 435 | .10 | 43.50
Survey of Remote NHSC Alumni | 860 | 1 | 860 | .15 | 129
Total | 7,464 |  | 7,464 |  | 1161.83

Written comments and recommendations concerning the proposed information collection should be sent within 30 days of this notice to the desk officer for HRSA, either by e-mail to OIRA_submission@omb.eop.gov or by fax to 202-395-6974. Please direct all correspondence to the “attention of the desk officer for HRSA.”

Dated: February 24, 2011.
Reva Harris,
Acting Director, Division of Policy and Information Coordination.

[FR Doc. 2011-4623 Filed 3-1-11; 8:45 am]

BILLING CODE 4165-15-P